DEPARTMENT OF COMMERCE

Minority Business Development Agency

[Docket No.: 0910271380-91383-01]

Extension of the Award Period for Certain Minority Business Enterprise Centers

AGENCY: Minority Business Development Agency, Commerce.

ACTION: Notice.

SUMMARY: The Minority Business Development Agency (MBDA) publishes this notice to allow for a funded extension of up to 12 months, on a non-competitive basis, of the award periods for those Minority Business Enterprise Centers (MBECs) identified in this notice. This action is necessary to allow continued program delivery by the incumbent MBEC operators while MBDA completes an evaluation of the MBEC Program and the solicitation and award processes for the next funding cycle.

DATES: The extension and related funding, if approved by the Department of Commerce Grants Officer, will commence at the end of the current award period and will continue for a period not to exceed 12 months.

FOR FURTHER INFORMATION CONTACT: Mr. Efrain Gonzalez, Chief, Office of Business Development, Minority Business Development Agency, 1401 Constitution Avenue, NW., Room 5075, Washington, DC 20230. Mr. Gonzalez may be reached by telephone at (202) 482-1940 and by e-mail at egonzalez@mbda.gov.

SUPPLEMENTARY INFORMATION: Pursuant to Executive Order 11625, the MBEC Program provides standardized business assistance and development services directly to eligible minority-owned businesses. The MBEC Program is a key component of MBDA's overall business development assistance program; it promotes the growth and competitiveness of minority business enterprises, and further incorporates an entrepreneurial approach to the delivery of client services. This strategy expands the reach and service delivery of the MBEC Program by requiring project operators to develop and build upon strategic alliances with public and private sector partners as a means of serving eligible businesses within each MBEC's applicable geographical service area.

MBDA amends its prior competitive solicitations under the MBEC Program, as referenced in the below table, to allow for a funded extension of up to 12 months, on a non-competitive basis, of the award period for the following MBEC projects:

Name of project | Name of operator | Geographical service area | Original Federal Register notice
Alabama MBEC | Mobile Area Chamber of Commerce, Inc. | State of Alabama | 71 FR 42351, as amended by 71 FR 45773.
Georgia MBEC | Georgia Tech Research Corporation | State of Georgia | 71 FR 42351.
Miami MBEC | M. Gill & Associates, Inc. | Miami/Ft. Lauderdale/Pompano Beach MSA | 72 FR 67277.
Mississippi MBEC | Arkansas Regional Minority Business Council. | State of Mississippi | 71 FR 42351, as amended by 71 FR 45773.
North Carolina MBEC | North Carolina Institute of Minority Economic Development. | State of North Carolina | 71 FR 42351.
South Carolina MBEC | DESA, Inc. | State of South Carolina | 71 FR 42351.
Chicago MBEC | Chicago Community Ventures. | State of Illinois | 71 FR 42351.
Detroit MBEC | Michigan Minority Business Development Council. | State of Michigan | 71 FR 42351, as amended by 71 FR 58788.
Indianapolis MBEC | State of Indiana. | State of Indiana | 71 FR 42351.
St. Louis MBEC | St. Louis Minority Business Development Council. | State of Missouri | 71 FR 42351.
Dallas MBEC | Grijalva & Allen, P.C. | Dallas/Fort Worth/Arlington MSA | 71 FR 42351.
El Paso MBEC | El Paso Hispanic Chamber of Commerce. | El Paso MSA | 72 FR 71621.
New Mexico MBEC | NEDA Business Consultants, Inc. | State of New Mexico | 71 FR 42351.
San Antonio MBEC | University of Texas at San Antonio. | San Antonio MSA | 71 FR 42351.
Manhattan MBEC | Interracial Council for Business Opportunity. | New York Counties of: New York, Bronx & Westchester | 71 FR 42351.
New Jersey MBEC | Interracial Council for Business Opportunity. | State of New Jersey | 71 FR 42351.
Pennsylvania | The Enterprise Center. | State of Pennsylvania | 71 FR 42351.
Puerto Rico MBEC | Asociacion Productos de Puerto Rico. | Puerto Rico Islandwide | 71 FR 42351.
Queens MBEC | Jamaica Business Resource Center. | New York Counties of: Queens, Nassau & Suffolk | 71 FR 42351.
Washington DC Metro MBEC | National Community Reinvestment Coalition, Inc. | Washington, DC/Arlington/Alexandria MSA | 71 FR 42351.
Williamsburg MBEC | ODA Community Development Corporation. | New York Counties of: Kings & Richmond | 71 FR 42351.
Arizona MBEC | Arizona Hispanic Chamber of Commerce Foundation. | State of Arizona | 71 FR 42351.
Honolulu MBEC | University of Hawaii. | Honolulu MSA | 72 FR 67277.
Inland Empire MBEC | CHARO Community Development Corporation. | California Counties of: Orange, Riverside, Inland Empire, San Diego & San Bernardino | 71 FR 42351.
Los Angeles MBEC | University of Southern California. | California Counties of: Los Angeles & Ventura | 71 FR 42351.
Nevada MBEC | New Ventures Capital Development Company. | State of Nevada | 71 FR 42351.
Northern California MBEC | Asian, Inc. | California Counties of: Santa Clara, Alameda, San Francisco, San Mateo, San Benito, Monterey, Santa Cruz, Sonoma, Napa, Solano, Contra Costa, Mendocino, San Joaquin, Sacramento, & Marin | 71 FR 42351.
Washington MBEC | Seattle Business Assistance Center. | State of Washington | 71 FR 42351.

MBDA takes this action to allow for continued program delivery by the incumbent MBEC operators while MBDA completes its evaluation of the MBEC Program and of the competitive solicitation and award processes for the next funding cycle.

The award extension and additional funding referenced herein will be made at the sole discretion of MBDA and the Department of Commerce using the following evaluation criteria: (1) The MBEC's program performance rating during the current program period; (2) the availability of appropriated funds; and (3) MBDA and Department of Commerce's priorities. MBDA will review each MBEC project's performance rating as evaluated through the standardized performance reports and assessments required under the MBEC Program in determining which projects will be offered an extension. Although MBDA is allowing for an extension of the award period for projects awarded under the MBEC Program, it is possible that not all projects will be offered an extension.

Funding for award extensions is contingent upon the availability of Fiscal Year 2010 appropriations, which have not yet been appropriated for the MBEC program. MBDA therefore issues this notice subject to the appropriations made available under the current continuing resolution, H.R. 2918, Division B, “Continuing Appropriations Resolution, 2010,” Public Law 111-68. In no event will MBDA or the Department of Commerce be responsible for any costs incurred outside of the current award period by the incumbent operators of the MBEC projects affected by this notice if the MBEC Program fails to receive funding or if an award extension is not made because of other MBDA or Department of Commerce priorities. Publication of this announcement does not oblige MBDA or the Department of Commerce to award any extensions or to obligate any available funds.

Department of Commerce Pre-Award Notification Requirements for Grants and Cooperative Agreements

The Department of Commerce Pre-Award Notification Requirements for Grants and Cooperative Agreements contained in the Federal Register notice of February 11, 2008 (73 FR 7696) are applicable to this notice.

Paperwork Reduction Act

This document contains collection of information requirements subject to the Paperwork Reduction Act (PRA). The use of the MBDA Performance Online Database and Standard Forms 424, 424A and 424B has been approved by OMB under the control numbers 0640-0002, 4040-0004, 4040-0006 and 4040-0007, respectively. Notwithstanding any other provisions of law, no person is required to respond to, nor shall any person be subject to a penalty for failure to comply with a collection of information subject to the PRA unless that collection displays a currently valid OMB Control Number.

Executive Order 12866

This notice has been determined to be not significant for purposes of E.O. 12866.

Executive Order 13132 (Federalism)

It has been determined that this notice does not contain policies with Federalism implications as that term is defined in Executive Order 13132.

Administrative Procedure Act/Regulatory Flexibility Act

Prior notice and an opportunity for public comment are not required by the Administrative Procedure Act for rules concerning public property, loans, grants, benefits, and contracts. 5 U.S.C. 553(a)(2). Because notice and opportunity for comment are not required pursuant to 5 U.S.C. 553 or any other law, the analytical requirements of the Regulatory Flexibility Act, 5 U.S.C. 601 et seq., are inapplicable. Therefore, a regulatory flexibility analysis is not required and has not been prepared.

Authority: 15 U.S.C. 1512 and Executive Order 11625.

David A. Hinson,
National Director, Minority Business Development Agency.

[FR Doc. E9-26902 Filed 11-10-09; 8:45 am]

BILLING CODE 3510-21-P